DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and were pending through December 31, 2003, and contract actions that have been completed or discontinued since the last publication of this notice on October 28, 2003. From the date of this publication, future quarterly notices during this calendar year will be limited to new, modified, discontinued, or completed contract actions. This annual notice should be used as a point of reference to identify changes in future notices. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Water Contracts and Repayment Office, Bureau of Reclamation, P.O. Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Used in This Document

BCP Boulder Canyon Project

Reclamation Bureau of Reclamation

CAP Central Arizona Project

CVP Central Valley Project

CRSP Colorado River Storage Project

FR Federal Register

IDD Irrigation and Drainage District

ID Irrigation District

M&I Municipal and Industrial

O&M Operation and Maintenance

P-SMBP Pick-Sloan Missouri Basin Program

PPR Present Perfected Right

SOD Safety of Dams

WD Water District

Pacific Northwest Region: Bureau of Reclamation, 1150 North Curtis Road, Suite 100, Boise, Idaho 83706-1234, telephone 208-378-5223.

1. Irrigation, M&I, and Miscellaneous Water Users; Idaho, Oregon, Washington, Montana, and Wyoming: Temporary or interim water service contracts for irrigation, M&I, or miscellaneous use to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Lenroot Canal Company, Liberty Park Canal Company, Poplar ID, all in the Minidoka Project, Idaho; Juniper Flat District Improvement Company, Wapinitia Project, Oregon: Amendatory repayment and water service contracts; purpose is to conform to the RRA.

5. Bridgeport ID, Chief Joseph Dam Project, Washington: Warren Act contract for the use of an irrigation outlet in Chief Joseph Dam.

6. Palmer Creek Water District Improvement Company, Willamette Basin Project, Oregon: Irrigation water service contract for approximately 13,000 acre-feet.

7. North Unit ID, Deschutes Project, Oregon: Warren Act contract with cost of service charge to allow for use of project facilities to convey nonproject water.

8. Baker Valley ID, Baker Project, Oregon: Warren Act contract with cost of service charge to allow for use of project facilities to store nonproject water.

9. Trendwest Resorts, Yakima Project, Washington: Long-term water exchange contract for assignment of Teanaway River and Big Creek water rights to Reclamation for instream flow use in exchange for annual use of up to 3,500 acre-feet of water from Cle Elum Reservoir for a proposed resort development.

10. City of Cle Elum, Yakima Project, Washington: Contract for up to 2,170 acre-feet of water for municipal use.

11. Burley ID, Minidoka Project, Idaho-Wyoming: Supplemental and amendatory contract providing for the transfer of O&M of the headworks of the Main South Side Canal and works incidental thereto.

12. Minidoka ID, Minidoka Project, Idaho-Wyoming: Supplemental and amendatory contract providing for the transfer of O&M of the headworks of the Main North Side Canal and works incidental thereto.

13. Fremont-Madison ID, Minidoka Project, Idaho-Wyoming: Repayment contract for reimbursable cost of SOD modifications to Grassy Lake Dam.

14. Queener Irrigation Improvement District, Willamette Basin Project, Oregon: Renewal of long-term water service contract to provide up to 2,150 acre-feet of stored water from the Willamette Basin Project (a Corps of Engineers' project) for the purpose of irrigation within the District's service area.

15. Vale and Warms Springs IDs, Vale Project, Oregon: Repayment contract for reimbursable cost of SOD modifications to Warm Springs Dam.

16. Westland and West Extension IDs, Umatilla Project, Oregon: Contracts for long-term boundary expansions to include lands outside of federally recognized district boundaries.

17. Greenberry ID, Willamette Basin Project, Oregon: Irrigation water service contract for approximately 7,500 acre-feet of project water.

18. Twenty-three irrigation districts of the Arrowrock Division, Boise Project, Idaho: Repayment agreements with districts with spaceholder contracts for repayment, per legislation, of reimbursable share of costs to rehabilitate Arrowrock Dam Outlet Gates under the O&M program.

19. Eighteen irrigation water user entities, Boise Project, Idaho: Long-term renewal and/or conversion of 18 irrigation water service contracts for supplemental irrigation use of up to 71,018 acre-feet of storage space in Lucky Peak Reservoir, a Corps of Engineers' project on the Boise River, Idaho.

The following action has been completed since the last publication of this notice on October 28, 2003:

1. (21) Tualatin Valley ID, Clean Water Services, and the Cities of Hillsboro, Forest Grove, Beaverton, and Lake Oswego; Tualatin Project; Oregon: Repayment agreements for repayment of reimbursable cost of SOD modifications to Scoggins Dam. Agreements were executed in September 2003.

Mid-Pacific Region: Bureau of Reclamation, 2800 Cottage Way, Sacramento, California 95825-1898, telephone 916-978-5250.

1. Irrigation water districts, individual irrigators, M&I and miscellaneous water users, Mid-Pacific Region projects other than CVP: Temporary (interim) water service contracts for available Project water for irrigation, M&I, or fish and wildlife purposes providing up to 10,000 acre-feet of water annually for terms up to 5 years; temporary Warren Act contracts for use of Project facilities for terms up to 1 year; temporary conveyance agreements with the State of California for various purposes; long-term contracts for similar service for up to 1,000 acre-feet annually. Note: Upon written request, copies of the standard forms of temporary water service contracts for the various types of service are available from the Regional Director at the address shown above.

2. Contractors from the American River Division, Cross Valley Canal, Delta Division, Friant Division, Sacramento River Division, San Felipe Division, Shasta Division, Trinity River Division, and West San Joaquin Division, CVP, California: Renewal of up to 114 long-term water service contracts; water quantities for these contracts total in excess of 3.4M acre-feet. These contract actions will be accomplished through long-term renewal contracts pursuant to Public Law 102-575. Prior to completion of negotiation of long-term renewal contracts, existing interim renewal water service contracts may be renewed through successive interim renewal of contracts.

3. Redwood Valley County WD, SRPA, California: Restructuring the repayment schedule pursuant to Public Law 100-516.

4. El Dorado County Water Agency, CVP, California: M&I water service contract to supplement existing water supply: 15,000 acre-feet for El Dorado County Water Agency authorized by Public Law 101-514.

5. Sutter Extension WD and the State of California Department of Water Resources, CVP, California: Pursuant to Public Law 102-575, conveyance agreements for the purpose of wheeling refuge water supplies and funding District facility improvements and exchange agreements to provide water for refuge and private wetlands.

6. CVP Service Area, California: Temporary water purchase agreements for acquisition of 20,000 to 200,000 acre-feet of water for fish and wildlife purposes as authorized by the Central Valley Project Improvement Act for terms of up to 3 years.

7. City of Roseville, CVP, California: Execution of long-term Warren Act contract for conveyance of nonproject water provided from the Placer County Water Agency. This contract will allow CVP facilities to be used to deliver nonproject water to the City of Roseville for use within their service area.

8. Sacramento Municipal Utility District, CVP, California: Amendment of existing water service contract to allow for additional points of diversion and assignment of up to 30,000 acre-feet of project water to the Sacramento County Water Agency. The amended contract will conform to current Reclamation law.

9. El Dorado ID, CVP, California: Execution of long-term Warren Act contract for conveyance of nonproject water. This contract will allow CVP facilities to be used to deliver nonproject water to the El Dorado ID for use within their service area.

10. Horsefly, Klamath, Langell Valley, and Tulelake IDs, Klamath Project, Oregon: SOD repayment of applicable costs related to work on Clear Lake Dam. These districts will share in repayment of costs and each district will have a separate contract. Initial contract should be ready by April 2004.

11. Casitas Municipal WD, Ventura Project, California: Repayment contract for SOD work on Casitas Dam.

12. Warren Act Contracts, CVP, California: Execution of long-term Warren Act contracts (up to 25 years) with various entities for conveyance of nonproject water in the Delta-Mendota Canal and the Friant Division facilities.

13. Tuolumne Utilities District (formerly Tuolumne Regional WD), CVP, California: Long-term water service contract for up to 9,000 acre-feet from New Melones Reservoir, and possibly long-term contract for storage of nonproject water in New Melones Reservoir.

14. Banta Carbona ID, CVP, California: Long-term Warren Act contract for conveyance of nonproject water in the Delta-Mendota Canal.

15. Plain View WD, CVP, California: Long-term Warren Act contract for conveyance of nonproject water in the Delta-Mendota Canal.

16. City of Redding, CVP, California: Amend water service contract No. 14-06-200-5272A, for the purpose of renegotiating the provisions of contract Article 15, “Water Shortage and Apportionment,” to conform to current CVP M&I water shortage policy.

17. Byron-Bethany ID, CVP, California: Long-term Warren Act contract for conveyance of nonproject water in the Delta-Mendota Canal.

18. Sacramento Area Flood Control Agency, CVP, California: Execution of a long-term operations agreement for flood control operations of Folsom Dam and Reservoir to allow for recovery of costs associated with operating a variable flood control pool of 400,000 to 670,000 acre-feet of water during the flood control season. This agreement is to conform to Federal law.

19. Colusa County WD, CVP, California: Proposed long-term Warren Act contract for conveyance of up to 4,500 acre-feet of ground water through the Tehama-Colusa Canal.

20. Madera-Chowchilla Water and Power Authority, CVP, California: Agreement to transfer the operation, maintenance, and replacement and certain financial and administrative activities related to the Madera Canal and associated works.

21. El Dorado ID, CVP, California: Title transfer agreement for conveyance of CVP facilities. This agreement will allow transfer of title for Sly Park Dam, Jenkinson Lake, and appurtenant facilities from the CVP to El Dorado ID.

22. Carpinteria WD, Cachuma Project, California: Contract to transfer title of distribution system to the District. Title transfer is subject to Congressional ratification.

23. Montecito WD, Cachuma Project, California: Contract to transfer title of distribution system to the District. Title transfer is subject to Congressional ratification.

24. City of Vallejo, Solano Project, California: Execution of long-term Warren Act contract for conveyance of nonproject water. This contract will allow Solano Project facilities to be used to deliver nonproject water to the City of Vallejo for use within their service area.

25. Sacramento Suburban WD (formerly Northridge WD), CVP, California: Execution of long-term Warren Act contract for conveyance of nonproject water. This contract will allow CVP facilities to be used to deliver nonproject water to the Sacramento Suburban WD for use within their service area.

26. Truckee Meadows Water Authority, Town of Fernley, State of California, City of Reno, City of Sparks, Washoe County, State of Nevada, Truckee-Carson ID, and any other local interest or Native American Tribal Interest, who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the proposed Truckee River Operating Agreement.

27. Contra Costa WD, CVP, California: Amend water service contract No. I75r-3401A to extend the date for renegotiation of the provisions of contract Article 12 “Water Shortage and Apportionment.”

28. Sacramento River Settlement Contracts, CVP, California: Up to 145 contracts and one contract with Colusa Drain Mutual Water Company will be renewed; water quantities for these contracts total 2.2M acre-feet. Colusa Drain Mutual Water Company contract will be renewed for a period of 25 years, and the rest of the contracts will be renewed for a period of 40 years. These contracts reflect an agreement to settle the dispute over water rights' claims on the Sacramento River.

29. San Joaquin Valley National Cemetery, U.S. Department of Veteran Affairs, Delta Division, CVP, California: Renewal of the long-term water service contract for up to 850 acre-feet with conveyance through the California State Aqueduct pursuant to the CVP-State Water Project wheeling agreement.

30. A Canal Fish Screens, Klamath Project, Oregon: Negotiation of an O&M contract for the A Canal Fish Screen with Klamath ID.

31. Ady Canal Headgates, Klamath Project, Oregon: Transfer of operational control to Klamath Drainage District of the headgates located at the railroad. Reclamation does not own the land at the headgates, only operational control pursuant to a railroad agreement.

32. Pajaro Valley Water Management Agency, CVP, California: Proposed assignment of 27,000 acre-feet of Broadview WD's entire CVP supply to Pajaro Valley Water Management Agency for M&I use.

33. Orland Unit Water Users Association, Orland Project, California: Repayment contract for SOD costs assigned to the irrigation purposes of Stony Gorge Dam.

34. Delta Lands Reclamation District No. 770, CVP, California: Long-term operations contract for conveying nonproject flood flows.

35. Banta-Carbona ID, CVP, California: Proposed partial assignment of up to 5,000 acre-feet of Banta Carbona ID's CVP water to the City of Tracy for M&I use.

36. The West Side ID, CVP, California: Proposed partial assignment of up to 5,000 acre-feet of the West Side ID's CVP irrigation water to the City of Tracy for M&I use.

37. Centinella WD, CVP, California: Proposed assignment of up to 2,500 acre-feet of Centinella WD's CVP water to Westlands WD for irrigation use.

38. Widren WD, CVP, California: Proposed assignment of up to 2,990 acre-feet of Widren WD's CVP water to Westlands WD for irrigation use.

The following actions have been completed since the last publication of this notice on October 28, 2003:

1. (5) Sutter Extension and Biggs-West Gridley WDs, Buena Vista Water Storage District, and the State of California Department of Water Resources, CVP, California: Pursuant to Public Law 102-575, conveyance agreements for the purpose of wheeling refuge water supplies and funding District facility improvements and exchange agreements to provide water for refuge and private wetlands. Conveyance agreement with Biggs-West Gridley WD was executed on September 23, 2003, and conveyance agreement with Buena Vista Water Storage District was executed on September 18, 2003. Contracts are still pending with Sutter Extension WD and the State of California Department of Water Resources.

2. (11) Cachuma Operations and Maintenance Board, Cachuma Project, California: Temporary interim contract (not to exceed 1 year) to transfer O&M responsibility of certain Cachuma Project facilities to member units.

3. (22) Foresthill Public Utility District, CVP, California: Title transfer agreement for conveyance of CVP facilities. This agreement will allow transfer of title for Sugar Pine Dam and appurtenant facilities from the CVP to Foresthill Public Utility District. Title transfer completed November 7, 2003.

4. (46) Melvin D. and Mardella Hughes, CVP, California: Assignment of water service contract to Tranquillity Public Utility District for agricultural use. Assumption contract executed October 14, 2003.

Lower Colorado Region: Bureau of Reclamation, P.O. Box 61470 (Nevada Highway and Park Street), Boulder City, Nevada 89006-1470, telephone 702-293-8536.

1. Milton and Jean Phillips, BCP, Arizona: Colorado River water delivery contract for 60 acre-feet of Colorado River water per year as recommended by the Arizona Department of Water Resources.

2. John J. Peach, BCP, Arizona: Colorado River water delivery contract for 456 acre-feet of Colorado River water per year as recommended by the Arizona Department of Water Resources.

3. Sunkist Growers, Inc., BCP, Arizona: Colorado River water delivery contract for 924 acre-feet of Colorado River water per year as recommended by the Arizona Department of Water Resources.

4. Brooke Water Co., BCP, Arizona: Amend contract for an additional 120 acre-feet per year of Colorado River water for domestic uses, as recommended by the Arizona Department of Water Resources.

5. Miscellaneous PPR No. 11, BCP, Arizona: Assign a portion of the PPR from Holpal to McNulty et al., and assign a portion of the PPR from Holpal to Hoover.

6. Beattie Farms SW, BCP, Arizona: Contract for 1,110 acre-feet per year of fourth priority water for agricultural purposes.

7. Maricopa-Stanfield IDD, CAP, Arizona: Amend distribution system repayment contract No. 4-07-30-W0047 to reschedule repayment pursuant to June 28, 1996, agreement.

8. Indian and non-Indian agricultural and M&I water users, CAP, Arizona: New and amendatory contracts for repayment of Federal expenditures for construction of distribution systems.

9. San Tan ID, CAP, Arizona: Amend distribution system repayment contract No. 6-07-30-W0120 to increase the repayment obligation by approximately $168,000.

10. Central Arizona IDD, CAP, Arizona: Amend distribution system repayment contract No. 4-07-30-W0048 to modify repayment terms pursuant to final order issued by U.S. Bankruptcy Court, District of Arizona.

11. Imperial ID/Coachella Valley WD and/or The Metropolitan WD of Southern California, BCP, California: Contract to fund the Department of the Interior's expenses to conserve All-American Canal seepage water in accordance with Title II of the San Luis Rey Indian Water Rights Settlement Act, dated November 17, 1988.

12. Coachella Valley WD and/or The Metropolitan WD of Southern California, BCP, California: Contract to fund the Department of the Interior's expenses to conserve seepage water from the Coachella Branch of the All-American Canal in accordance with Title II of the San Luis Rey Indian Water Rights Settlement Act, dated November 17, 1988.

13. Salt River Pima-Maricopa Indian Community, CAP, Arizona: O&M contract for its CAP water distribution system.

14. Arizona State Land Department, BCP, Arizona: Colorado River water delivery contract for 1,534 acre-feet per year for domestic use.

15. Miscellaneous PPR No. 38, BCP, California: Assign Schroeder's portion of the PPR to Murphy Broadcasting.

16. Berneil Water Co., CAP, Arizona: Partial assignment of 200 acre-feet of water per year to the Cave Creek Water Company.

17. Canyon Forest Village II Corporation, BCP, Arizona: Colorado River water delivery contract for up to 400 acre-feet per year of unused Arizona apportionment or surplus apportionment for domestic use.

18. Gila Project Works, Gila Project, Arizona: Title transfer of facilities and certain lands in the Wellton-Mohawk Division from the United States to the Wellton-Mohawk IDD.

19. ASARCO Inc., CAP, Arizona: Amendment of subcontract to extend the deadline for giving notice of termination on exchange.

20. Phelps Dodge Miami, Inc., CAP, Arizona: Amendment of subcontract to extend the deadline for giving notice of termination on exchange.

21. Gila River Indian Community, CAP, Arizona: Amend CAP water delivery contract and distribution system repayment and operation, maintenance, and replacement, contract pursuant to the Arizona Water Settlements Act, when enacted (Federal legislation pending).

22. North Gila Valley IDD, Yuma ID, and Yuma Mesa IDD, Yuma Mesa Division, Gila Project, Arizona: Administrative action to amend each district's Colorado River water delivery contract to effectuate a change from a “pooled” water entitlement for the Division to a quantified entitlement for each district.

23. Indian and/or non-Indian M&I users, CAP, Arizona: New or amendatory water service contracts or subcontracts in accordance with an anticipated final record of decision for reallocation of CAP water, as discussed in the Secretary of the Interior's notice published in the Federal Register on July 30, 1999 (64 Fed. Reg. 41456).

24. Litchfield Park Service Company, CAP, Arizona: Proposed partial assignments of subcontract for 5,590 acre-feet of CAP M&I water to the Central Arizona Water Conservation District, which is exercising its authority as the Central Arizona Groundwater Replenishment District, and to the cities of Avondale, Carefree, and Goodyear.

25. Shepard Water Company, Inc., BCP, Arizona: Contract for the annual delivery of 50 acre-feet of fourth priority water per year for domestic use.

26. Jessen Family Limited Partnership, BCP, Arizona: Partial contract for delivery of Colorado River water for agricultural purposes.

27. City of Somerton, BCP, Arizona: Contract for the annual delivery of up to 750 acre-feet of Colorado River water per year for domestic use as recommended by the Arizona Department of Water Resources.

28. Various Irrigation Districts, CAP, Arizona: Amend distribution system repayment contracts to provide for partial assumption of debt by the Central Arizona Water Conservation District and the United States pursuant to the Arizona Water Settlements Act, when enacted (Federal legislation pending).

29. Mohave County Water Authority, BCP, Arizona: Amendatory Colorado River water delivery contract to include the delivery of 3,500 acre-feet per year of fourth priority water and to delete the delivery of 3,500 acre-feet per year of fifth or sixth priority water.

30. Harquahala Valley ID, CAP, Arizona: The District has requested that Reclamation transfer title to the District's CAP Distribution System and to assign to the District permanent easements acquired by the United States. Title transfer of the District's CAP distribution system is authorized by Public Law 101-628 and contract No. 3-07-30-W0289 between the District and Reclamation, dated December 8, 1992.

31. All-American Canal, BCP, California: Agreement among Reclamation, Imperial ID, Metropolitan WD, and Coachella Valley WD for the federally funded construction of a reservoir(s) and associated facilities that will improve the regulation and management of Colorado River water (Federal legislation pending).

32. Tohono O'odham Nation, CAP, Arizona: Amend CAP water delivery contract pursuant to the Arizona Water Settlements Act, when enacted.

33. Central Arizona Water Conservation District and the Arizona Department of Water Resources, CAP, Arizona: Arizona Water Settlement Agreement to address outstanding CAP water allocation issues, subject to completion of final record of decision for reallocation of CAP water as discussed in the Secretary of the Interior's notice published in the Federal Register on July 30, 1999 (64 FR 41456).

34. Sunrise Water Company, CAP, Arizona: Proposed assignment of subcontract for 944 acre-feet of CAP M&I water per year to the Central Arizona Water Conservation District, which is exercising its authority as the Central Arizona Groundwater Replenishment District.

35. West End Water Company, CAP, Arizona: Proposed assignment of subcontract for 157 acre-feet of CAP M&I water per year to the Central Arizona Water Conservation District, which is exercising its authority as the Central Arizona Groundwater Replenishment District.

36. New River Utilities Company, CAP, Arizona: Proposed assignment of subcontract for 1,885 acre-feet of CAP M&I water to the Central Arizona Water Conservation District, which is exercising its authority as the Central Arizona Groundwater Replenishment District.

37. Cibola Valley IDD, BCP, Arizona: Contingent upon completion of sale documents, proposed assignment and transfer of a portion of Cibola Valley IDD's right to divert up to 24,120 acre-feet of Colorado River per year to the Mohave County Water Authority, the Hopi Tribe, and Reclamation.

38. Metropolitan WD and others, BCP, Arizona and California: Contract to provide for the recovery by Metropolitan WD of interstate underground storage credits previously placed in underground storage in Arizona by the Central Arizona Water Conservation District under agreements executed in 1992 and 1994, and to document the Arizona Water Banking Authority's responsibility in agreeing to Arizona's forbearance in the use of Colorado River water to permit the Secretary to release that quantity of water for diversion and use by the Metropolitan WD.

39. Wellton-Mohawk IDD, BCP, Arizona: Amend contract No. 1-07-30-W0021 to revise the authority to deliver domestic use water from 5,000 to 10,000 acre-feet per calendar year, which is within the District's current overall Colorado River water entitlement.

40. Fisher's Landing Water and Sewer Works, LLC, BCP Arizona: Contract for 87 acre-feet annually of Colorado River water to be used to account for domestic water use on residential properties located within the Castle Dome area of Martinez Lake.

41. Green Valley Water Company, CAP, Arizona: Assignment of subcontract entitlement of 1,900 acre-feet of M&I water per year to Green Valley Domestic Improvement District.

42. Midvale Farms Water Company, CAP, Arizona: Assignment of allocation for 1,500 acre-feet of M&I water per year to the City of Tucson.

43. Yuma County Water Users Association, BCP, Arizona: Supplemental contract for O&M of the Yuma Project, Valley Division.

44. Forbearance agreements, BCP, Arizona and California: Develop and execute short-term agreements to implement a demonstration forbearance program to evaluate the feasibility of acquiring water, through a voluntary land fallowing program, to replace drainage water currently being bypassed to the Cienega de Santa Clara.

The following actions have been discontinued since the last publication of this notice on October 28, 2003:

1. (3) National Park Service for Lake Mead National Recreation Area, Supreme Court Decree in Arizona v. California, and BCP in Arizona and Nevada: Agreement for delivery of Colorado River water for the National Park Service's Federal Establishment PPR for diversion of 500 acre-feet annually and the National Park Service's Federal Establishment perfected right pursuant to Executive Order No. 5125 (April 25, 1930).

2. (4) Miscellaneous PPR entitlement holders, BCP, Arizona and California: New contracts for entitlement to Colorado River water as decreed by the U.S. Supreme Court in Arizona v. California, as supplemented or amended, and as required by section 5 of the Boulder Canyon Project Act. Miscellaneous PPRs holders are listed in the January 9, 1979, Supreme Court Supplemental Decree in Arizona v. California et al.

3. (8) U.S. Fish and Wildlife Service, Lower Colorado River Refuge Complex, BCP, Arizona: Agreement to administer the Colorado River water entitlement for refuge lands located in Arizona to resolve water rights coordination issues, and to provide for an additional entitlement for non-consumptive use of flow through water.

The following actions have been completed since the last publication of this notice on October 28, 2003:

1. (24) California Water Districts, BCP, California: Incorporate into the water delivery contracts with several water districts (Coachella Valley WD, Imperial ID, Palo Verde ID, and The Metropolitan WD of Southern California), through new contracts, contract amendments, contract approvals, or other appropriate means, the agreement reached with those water districts to (i) quantity the Colorado River water entitlements for Coachella Valley WD and Imperial ID and (ii) provide a basis for water transfers among California water districts.

2. (29) The United States International Boundary and Water Commission, The Metropolitan WD of Southern California, San Diego County Water Authority, and Otay WD, Mexican Treaty Waters: Agreement for the temporary emergency delivery of a portion of the Mexican Treaty waters of the Colorado River to the International Boundary in the vicinity of Tijuana, Baja California, Mexico.

3. (30) Gila River Indian Community, CAP, Arizona: Operation, maintenance, and replacement contract for an archeological repository named the Huhugam Heritage Center.

4. (33) Cities of Chandler and Mesa, CAP, Arizona: Amendments to the CAP M&I water service subcontracts of the cities of Chandler and Mesa to remove the language stating that direct effluent exchange agreements with Indian Communities are subject to the “pooling concept.”

5. (43) Allocation agreement for water conserved from lining the All-American and Coachella Canals, BCP, California: Parties include the United States, The Metropolitan WD of Southern California, the Coachella Valley WD, the Imperial ID, the City of Escondido, Vista, San Luis Rey River Indian Water Authority, and the La Jolla, Pala, Pauma, Rincon, and San Pasqual Bands of Mission Indians.

6. (53) City of Tucson, CAP, Arizona: Partial transfer of 4,454 acre-feet of M&I allocation from the City of Tucson to Wells Fargo Bank of Arizona, Trustee, for the town of Oro Valley.

7. (54) Arizona American Water Company (Sun City Division), CAP, Arizona: Subcontract with Central Arizona Water Conservation District for water service of 4,189 acre-feet of M&I water.

8. (55) Arizona American Water Company (Sun City West Division), CAP, Arizona: Subcontract with Central Arizona Water Conservation District for water service of 2,372 acre-feet of M&I water.

9. (56) Arizona American Water Company (Agua Fria Division), CAP, Arizona: Subcontract with Central Arizona Water Conservation District for water service of 11,092 acre-feet of M&I water.

Upper Colorado Region: Bureau of Reclamation, 125 South State Street, Room 6107, Salt Lake City, Utah 84138-1102, telephone 801-524-3864.

1. Individual irrigators, M&I, and miscellaneous water users, Initial Units, CRSP; Utah, Wyoming, Colorado, and New Mexico: Temporary (interim) water service contracts for surplus project water for irrigation or M&I use to provide up to 10, 000 acre-feet of water annually for terms up to 10 years; long-term contracts for similar service for up to 1,000 acre-feet of water annually.

(a) United States Fish and Wildlife Service, Aspinall Unit, CRSP; Colorado: Contract for 25 acre-feet to support an augmentation plan to provide water for the Hotchkiss Fish Hatchery ponds, used to grow out endangered fish, which is a part of the Endangered Fish Recovery Program.

(b) Upper Gunnison Water Conservancy District (Upper Gunnison), Aspinall Unit, CRSP, Colorado: A 40-year contract for 500 acre-feet of M&I water to support Upper Gunnison's plan of augmentation for non-agricultural water uses within the Upper Gunnison District. The 500 acre-feet of water is to be resold by Upper Gunnison under third-party contracts approved by Reclamation, to water users located with Upper Gunnison's boundaries.

(c) Hawk Haven LLC, Aspinall Unit, CRSP: Hawk Haven LLC has requested a 40-year water service contract for 1 acre-foot of water out of Blue Mesa Reservoir to support their plan of augmentation, case No. 03WC091, District Court, Water Division 4.

(d) Robert V. Ketchum, Aspinall Unit, CRSP: Robert V. Ketchum has requested a 40-year water service contract for 1 acre-foot water out of Blue Mesa Reservoir to support his plan of augmentation, case No. 02WC252, District Court, Water Division 4.

2. Taos Area, San Juan-Chama Project, New Mexico: The United States is reserving 2,990 acre-feet of project water for potential use in an Indian water rights settlement in the Taos, New Mexico area.

3. Various Contactors, San Juan-Chama Project, New Mexico: The United States proposes to lease water from various contractors to stabilize flows in a critical reach of the Rio Grande in order to meet the needs of irrigators and preserve habitat for the silvery minnow.

4. Upper Gunnison River Water Conservancy District, Aspinall Unit, CRSP, Colorado: Long-term water service contract for up to 25,000 acre-feet for irrigation use.

5. Uncompahgre Valley Water Users Association, Upper Gunnison River Water Conservancy District, Colorado River Water Conservation District, Uncompahgre Project, Colorado: Water management agreement for water stored at Taylor Park Reservoir and the Wayne N. Aspinall Storage Units to improve water management.

6. Southern Ute Indian Tribe, Florida Project, Colorado: Supplement to contract No. 14-06-400-3038, dated May 7, 1963, for an additional 181 acre-feet of project water, plus 563 acre-feet of water pursuant to the 1986 Colorado Ute Indian Water Rights Final Settlement Agreement.

7. Sanpete County Water Conservancy District, Narrows Project, Utah: Application for a SRPA loan and grant to construct a dam, reservoir, and pipeline to annually supply approximately 5,000 acre-feet of water through a transmountain diversion from upper Gooseberry Creek in the Price River drainage (Colorado River Basin) to the San Pitch—Savor River (Great Basin).

8. Individual Irrigators, Carlsbad Project, New Mexico: The United States proposes to enter into long-term forbearance lease agreements with individuals who have privately held water rights to divert nonproject water either directly from the Pecos River or from shallow/artesian wells in the Pecos River Watershed. This action will result in additional water in the Pecos River to make up for the water depletions caused by changes in operations at Summer Dam which were made to improve conditions for a threatened species, the Pecos bluntnose shiner.

9. La Plata Conservancy District, Animas-La Plata Project, Colorado and New Mexico: Cost sharing/repayment contract for up to 1,560 acre-feet per year of M&I water; contract terms to be consistent with the Colorado Ute Settlement Act Amendments of 2000 (Title III of Pub. L. 106-554).

10. LeChee Chapter of the Navajo Nation, Glen Canyon Unit, CRSP, Arizona: Long-term contract for 950 acre-feet of water for municipal purposes.

11. Pine River ID, Pine River Project, Colorado: Contract to allow the District to convert up to approximately 3,000 acre-feet of project irrigation water to municipal, domestic, and industrial uses.

12. City of Page, Arizona; Glen Canyon Unit, CRSP; Arizona: Long-term contract for 1,000 acre-feet of water for municipal purposes.

13. Castle Valley Special Service District, City of Huntington, Emery County Project: Assignment of contract for 189 acre-feet of water for municipal purposes.

14. El Paso County Water Improvement District No. 1 and Isleta del Sur Pueblo, Rio Grande Project, Texas: Contract to convert up to 1,000 acre-feet of the Pueblo's project irrigation water to use for traditional and religious purposes.

15. Carlsbad ID and New Mexico Interstate Stream Commission (ISC), Carlsbad Project, New Mexico: Contract to convert irrigation water appurtenant to up to 6,000 acres of land within the project for use by the ISC for delivery to Texas to meet New Mexico's Pecos River Compact obligation.

16. Animas-La Plata Water Conservancy District, Colorado, Animas-La Plata Project, Colorado and New Mexico: Contract to transfer the operation, maintenance, and replacement responsibilities of most project facilities to the District, pursuant to Section 6 of the Reclamation Act of June 17, 1902, and other Reclamation laws.

17. South Cache Water Users Association, Hyrum Project, Utah: Contract to allow the Association to convert up to 1,000 acre-feet of project irrigation water annually to municipal, domestic, and industrial uses.

18. Project Operations Committee, Animas-La Plata Project, Colorado and New Mexico: Agreement among the United States, the Southern Ute Indian Tribe, the Ute Mountain Ute Tribe, the Navajo Nation, the San Juan Water Commission, the Animas-La Plata Water Conservancy District, the State of Colorado, and the La Plata Conservancy District of New Mexico to coordinate and oversee the necessary operation, maintenance, and replacement activities of the project works.

19. Southern Ute Indian Tribe, Colorado, Animas-La Plata Project, Colorado and New Mexico: Water delivery contract for an average annual depletion not to exceed 16,525 acre-feet of M&I water; contract terms to be consistent with the Colorado Ute Settlement Act Amendments of 2000 (Title III of Pub. L. 106-554).

20. Ute Mountain Ute Tribe, Animas-La Plata Project, Colorado and New Mexico: Water delivery contract for an average annual depletion not to exceed 16,525 acre-feet of M&I water; contract terms to be consistent with the Colorado Ute Settlement Act Amendments of 2000 (Title III of Pub. L. 106-554).

21. Navajo Nation, Animas-La Plata Project, Colorado and New Mexico: Water delivery contract for an average annual depletion not to exceed 2,340 acre-feet of M&I water; contract terms to be consistent with the Colorado Ute Settlement Act Amendments of 2000 (Title III of Pub. L. 106-554).

22. Various contractors including the Town of Mancos and the Mancos Rural Water Company, Mancos Project, Colorado: Small or short-term contracts to carry nonproject water through project facilities for municipal purposes under authority of Public Law 106-549.

The following action has been discontinued since the last publication of this notice on October 28, 2003:

1. (3) Water Service Contractors, San Juan-Chama Project, New Mexico: Conversion of water service contracts to repayment contracts for the following entities: City of Santa Fe, County of Los Alamos, City of Espanola, Town of Taos, Village of Los Lunas, and Village of Tao Ski Valley.

The following actions have been completed since the last publication of this notice on October 28, 2003:

1. (25) Elk Meadows Homeowners Association, Aspinall Storage Unit, CRSP, Colorado: Elk Meadows has requested a 40-year water service contract for 3 acre-feet water out of Blue Mesa Reservoir to support their plan of augmentation, case No. 03WC20, District Court, Water Division 4. Contract was executed on October 16, 2003.

2. (27) Russell, Harrison F. and Patricia E.; Aspinall Unit, CRSP; Colorado: Contract for 1 acre-foot of water to support an augmentation plan, case No. 97CW39, Water Division Court No. 4, State of Colorado, to provide for a single-family residential well, including home lawn and livestock watering (non-commercial). Contract was executed on November 10, 2003.

Great Plains Region: Bureau of Reclamation, P.O. Box 36900, Federal Building, 316 North 26th Street, Billings, Montana 59107-6900, telephone 406-247-7790.

1. Individual irrigators, M&I, and miscellaneous water users: Colorado, Kansas, Montana, Nebraska, North Dakota, Oklahoma, South Dakota, Texas, and Wyoming: Temporary (interim) water service contracts for the sale, conveyance, storage, and exchange of surplus project water and nonproject water for irrigation or M&I use to provide up to 10,000 acre-feet of water annually for a term of up to 1 year.

2. Green Mountain Reservoir, Colorado-Big Thompson Project, Colorado: Water service contracts for irrigation and M&I; contracts for sale of water from the marketable yield to water users within the Colorado River Basin of western Colorado.

3. Ruedi Reservoir, Fryingpan-Arkansas Project, Colorado: Second round water sales from the regulatory capacity of Ruedi Reservoir. Water service and repayment contracts for up to 17,000 acre-feet annually for M&I use.

4. Garrison Diversion Unit, P-SMBP, North Dakota: Renegotiation of the master repayment contract with Garrison Diversion Conservancy District to conform with the Garrison Diversion Unit Reformulation Act of 1986; negotiation of repayment contracts with irrigators and M&I users.

5. City of Rapid City, Rapid Valley Unit, P-SMBP, South Dakota: Contract renewal for storage capacity in Pactola Reservoir. A temporary (1 year not to exceed 10,000 acre-feet) water service contract has been executed with the City of Rapid City, Rapid Valley Unit, for use of water from Pactola Reservoir. A long-term storage contract is being negotiated for water stored in Pactola Reservoir. Legislation is pending for change in the authorized use of Pactola storage.

6. Mid-Dakota Rural Water System, Inc., South Dakota: Pursuant to the Reclamation Projects Authorization and Adjustment Act of 1992, the Secretary of the Interior is authorized to make grants and loans to Mid-Dakota Rural Water System, Inc., a non-profit corporation, for the planning and construction of a rural water supply system.

7. City of Berthoud, Colorado-Big Thompson Project, Colorado: Long-term contract for conveyance of nonproject M&I water through Colorado-Big Thompson Project facilities.

8. City of Cheyenne, Kendrick Project, Wyoming: Negotiate a long-term contract for storage space for replacement water on a daily basis in Seminoe Reservoir. A temporary contract has been issued pending negotiation of the long-term contract.

9. Highland-Hanover ID, Hanover-Bluff Unit, P-SMBP, Wyoming: Negotiate long-term water service contract; includes provisions for repayment of construction costs.

10. Upper Bluff ID, Hanover-Bluff Unit, P-SMBP, Wyoming: Negotiate long-term water service contract; includes provisions for repayment of construction cost.

11. Fort Clark ID, P-SMBP, North Dakota: Negotiation of water service contract to continue delivery of project water to the District.

12. Western Heart River ID, Heart Butte Unit, P-SMBP, North Dakota: Negotiation of water service contract to continue delivery of project water to the District.

13. Lower Marias Unit, P-SMBP, Montana: Water service contract with Robert A. Sisk, Sisk Ranch, expired in July 1998. Initiating long-term contract for the use of up to 552 acre-feet of storage water from Tiber Reservoir to irrigate 276 acres. This action will combine the two contracts presently held by Robert Sisk. Temporary/interim contracts are being issued to allow continued delivery of water and the time necessary to complete required actions for the long-term contract process.

14. Lower Marias Unit, P-SMBP, Montana: Negotiating for a long-term water service contract with Julie Peterson for the use of up to 717 acre-feet of storage water from Tiber Reservoir to irrigate 239 acres. Temporary/interim contracts are being issued to allow continued delivery of water and the time necessary to complete required actions for the long-term contract process.

15. Lower Marias Unit, P-SMBP, Montana: Water service contract with Ray Morkrid as Morkrid Enterprises expired May 1998. Initiating long-term contract for the use of up to 6,855 acre-feet of storage water from Tiber Reservoir to irrigate 2,285 acres. Temporary/interim contracts are being issued to allow continued delivery of water and the time necessary to complete required actions for the long-term contract process.

16. Dickinson-Heart River Mutual Aid Corporation, Dickinson Unit, P-SMBP, North Dakota: Negotiate renewal of water service contract for irrigation of lands below Dickinson Dam in western North Dakota.

17. Savage ID, P-SMBP, Montana: The District is currently seeking title transfer. The contract is subject to renewal pending outcome of the title transfer process. A 5-year interim contract has been executed to ensure a continuous water supply. The District has requested information concerning renewal of the long-term contract.

18. City of Fort Collins, Colorado-Big Thompson Project, Colorado: Long-term contracts for conveyance and storage of nonproject M&I water through Colorado-Big Thompson Project facilities.

19. Standing Rock Sioux Tribe, P-SMBP, North Dakota: Negotiate a long-term water service contract with the Standing Rock Sioux Tribe in North Dakota for irrigation of up to 2,380 acres of land within the reservation.

20. Glendo Unit, P-SMBP, Wyoming: Amend long-term water service contracts with Burbank Ditch, New Grattan Ditch Company, Torrington ID, Lucerne Canal and Power Company, and Wright and Murphy Ditch Company.

21. Glendo Unit, P-SMBP, Nebraska: Amend long-term water service contracts with Bridgeport, Enterprise, and Mitchell IDs, and Central Nebraska Public Power and ID.

22. Helena Valley Unit, P-SMBP, Montana: Initiating negotiations with Helena Valley ID for renewal of Part A of the A/B contract which expires in 2004.

23. Crow Creek Unit, P-SMBP, Montana: Initiating negotiations with Toston ID for renewal of Part A of the A/B contract which expires in 2004.

24. Dickinson Parks and Recreation District, Dickinson Unit, P-SMBP, North Dakota: A temporary contract has been negotiated with the District for minor amounts of water from Dickinson Reservoir. Negotiate a long-term water service contract with the Park Board for minor amounts of water from Dickinson Dam.

25. Clark Canyon Water Supply Company, East Bench Unit, P-SMBP, Montana: Initiating renewal of contract No. 14-06-600-3592 which expires December 31, 2005.

26. East Bench ID, East Bench Unit, P-SMBP, Montana: Initiating renewal of contract No. 14-06-600-3593 which expires December 31, 2005.

27. Lower Marias Unit, P-SMBP, Montana: Initiating long-term water service contract with Allen Brown as Tiber Enterprises for up to 1,388 acre-feet of storage water from Tiber Reservoir to irrigate 694 acres. This action will combine the two contracts presently held by Tiber Enterprises. Temporary/interim contracts are being issued to allow continued delivery of water and the time necessary to complete required actions for the long-term contract process.

28. Helena Valley Unit, P-SMBP, Montana: The long-term water service contract with the City of Helena, Montana, expires December 31, 2004. Initiating negotiations for contract renewal for an annual supply of raw water for domestic and M&I use from Helena Valley Reservoir not to exceed 5,680 acre-feet of water annually.

29. Canadian River Municipal Water Authority, Lake Meredith Salinity Control Project, New Mexico and Texas: Negotiation of a contract for the transfer of control (care and O&M) of the project to the Authority in accordance with Pub. L. 102 575, Title VIII, Section 804(c).

30. Fryingpan-Arkansas Project, Colorado: Consideration of excess capacity contracts in the Fryingpan-Arkansas Project.

31. Fryingpan-Arkansas Project, Colorado: Consideration of requests for long-term contracts for the use of excess capacity in the Fryingpan-Arkansas Project from the Southeastern Colorado Water Conservancy District, the City of Aurora, and the Colorado Springs Utilities.

32. Town of Deaver, Shoshone Project, Wyoming: Negotiate a long-term contract for up to 475 acre-feet of irrigation water from the two drains below Deaver Reservoir.

33. Tom Green County Water Control and Improvement District No. 1, San Angelo Project, Texas: The District has requested a partial deferment of its 2003 repayment obligation. A BON has been prepared to amend contract No. 14-06-500-369. A public notice has been published in the San Angelo Times.

34. Debbie A. Axtell (Individual), Boysen Unit, P-SMBP, Wyoming: Renew long-term contract for up to 100 acre-feet of irrigation water to service 17.2 acres.

35. Individual irrigators, Heart Butte Unit, P-SMBP, North Dakota: Renew long-term water service contracts for minor amounts of less than 1,000 acre-feet of irrigation water annually from the Heart River below Heart Butte Dam.

The following actions have been completed since the last publication of this notice on October 28, 2003:

1. (32) Pueblo Board of Water Works, Fryingpan-Arkansas Project, Colorado: On September 25, 2002, an amendment was executed to extend the term of a conveyance contract by 1 year from October 2002 to October 1, 2003. Initiating negotiations for renewal of a water conveyance contract for annual conveyance of up to 750 acre-feet of nonproject water through the Nast and Boustead Tunnel System. Contract was executed on September 25, 2003.

2. (40) Clayton and Debbie Fulfer (Individual), P-SMBP, Boysen Unit, Wyoming: Renewal of long-term contract for up to 15 acre-feet of supplemental irrigation water to service 5.72 acres. Contract was executed on October 16, 2003.

Dated: January 20, 2004.
Sandra L. Simons,
Acting Director, Office of Program and Policy Services.

[FR Doc. 04-4355 Filed 2-26-04; 8:45 am]

BILLING CODE 4310-MN-P